DEPARTMENT OF ENERGY

Federal Energy Regulatory Commission

[Docket No. CP01-11-000]

Columbia Gas Transmission Corporation; Notice of Application

October 18, 2000.

Take notice that on October 13, 2000, Columbia Gas Transmission Corporation (Columbia), P.O. Box 1273, Charleston, West Virginia, filed an application in Docket No. CP01-11-000, pursuant to Section 7(b) of the Natural Gas Act (NGA) for permission and approval to abandon a storage injection/withdrawal well and an associated well line located in the Benton Storage Field, Vinton County, Ohio, all as more fully set forth in the application which is on file with the Commission and open to public inspection. This filing may be viewed on the web at http://www.ferc.us/online/rims.htm (call 202-208-2222).

Columbia proposes to abandon its storage injection/withdrawal Well No. 10238 and its associated Well Line No. SR-W10238, consisting of 0.27 mile of 2-inch pipeline. Columbia states that the physical condition of the storage well has deteriorated to the extent that an expensive repair or abandonment is required. Columbia also submits that the repairs would be uneconomic due to the poor performance of the well. Columbia also states that recent evidence of leakage from the well supports proposal for immediate abandonment.

Columbia indicates that the well line will no longer be needed after the well is abandoned. Columbia also states that no customers will be impacted by the proposed abandonment.

Any questions concerning this application may be directed to Fredric J. George at (304) 357-2359.

Any person desiring to be heard or to make protest with reference to said application should on or before October 30, 2000, file with the Federal Energy Regulatory Commission, 888 First Street, NE., Washington, DC 20426, a motion to intervene or a protest in accordance with the requirements of the Commission's Rules of Practice and Procedure (18 CFR 385.211 or 385.214) and the regulations under the Natural Gas Act (18 CFR 157.10). All protests filed with the Commission will be considered by it in determining the appropriate action to be taken but will not serve to make the protestants parties to the proceeding. The Commission's rules require that protestors provide copies of their protests to the party or parties directly involved. Any person wishing to become a party to a proceeding or to participate as a party in any hearing therein must file a motion to intervene in accordance with the Commission's rules.

Take further notice that, pursuant to the authority contained in and subject to jurisdiction conferred upon the Commission by Sections 7 and 15 of the NGA and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Columbia to appear or be represented at the hearing.

David P. Boergers,
Secretary.

[FR Doc. 00-27276 Filed 10-23-00; 8:45 am]

BILLING CODE 6717-01-M